NATIONAL COUNCIL ON DISABILITY

Sunshine Act Meetings

TIME AND DATES: The Members of the National Council on Disability (NCD) will hold a quarterly meeting on Thursday, July 24, 2014, 1:30 p.m. to 4:30 p.m. (Eastern Daylight Time). On July 25, 2014, from 9:30 a.m. to 12 p.m., the Council will host a congressional forum on the topic of the rights of parents with disabilities and their children that is also open to the public.

PLACE: The Thursday quarterly business meeting will occur in Washington, DC, at the Access Board Conference Room, 1331 F Street NW., Suite 800, Washington, DC. Interested parties may join the meeting in person or by phone in a listening-only capacity (with the exception of the public comment period) using the following call-in number: 1-888-378-0320; Conference ID: 5251555; Conference Title: NCD Meeting; Host Name: Jeff Rosen. The Friday congressional forum will occur on a location on Capitol Hill, room to be determined. Please check NCD's Web site for the room location, which, once confirmed, will be posted at http://www.ncd.gov/events/OtherEvents/06302014/.

MATTERS TO BE CONSIDERED: The Council will receive reports from its standing committees and updates on policy projects underway; hear from a panel of policy thinkers to help map out disability policy priorities and trends for the Council's consideration; discuss the Council's scope of work for FY15 and beyond; and receive an update on its Medicaid Managed Care forums around the country.

AGENDA: The times provided below are approximations for when each agenda item is anticipated to be discussed (all times EDT):

9:30-10 a.m.—Call to Order, Standing Committee Reports

10-11 a.m.—NCD Policy Project Report Outs (Social Security; Affordable Care Act; annual Progress Report; Transportation; Home- and Community-Based Services reports)

11-11:15 a.m.—Break

11:15-11:45 a.m.—Preparation for Congressional Forum on Parents with Disabilities (to be hosted Friday on Capitol Hill)

11:45 a.m.-12:15 p.m.—Public Comment

12:15-1:30 p.m.—Lunch

1:30-2:30 p.m.—New Directions in Disability Policy

2:30-3:15 p.m.—Next Generation NCD (Council's scope of work FY15 and beyond)

3:15-3:30 p.m.—Break

3:30-4 p.m.—Continued Discussion on Next Generation NCD

4-4:30 p.m.—Medicaid Managed Care Forums Update

4:30 p.m.—Adjournment

PUBLIC COMMENT: To better facilitate NCD's public comment periods, any individual interested in providing public comment will be asked to register their intent to provide comment in advance by sending an email to PublicComment@ncd.gov with the subject line “Registration” with your name, organization, state, and topic of comment included in the body of your email. Full-length written public comments may also be sent to that email address. All emails to register for public comment at the July 24 quarterly meeting must be received by Monday, July 21, 2014. Priority will be given to those individuals who are in-person to provide their comments. Those commenters on the phone will be called on according to the list of those registered via email. Due to time constraints, NCD asks all commenters to limit their comments to three minutes.

CONTACT PERSON FOR MORE INFORMATION: Anne Sommers, NCD, 1331 F Street NW., Suite 850, Washington, DC 20004; 202-272-2004 (V), 202-272-2074 (TTY).

ACCOMMODATIONS: A CART streamtext link has been arranged for the Thursday NCD quarterly business meeting. The web link to access CART is: http://www.streamtext.net/text.aspx?event=072414NCD930am. Those who plan to attend the meeting in-person and require accommodations should notify NCD as soon as possible to allow time to make arrangements. CART and sign language interpreters will also be present for the congressional forum on the rights of parents with disabilities on Friday, July 25, 2014. Please note: To help reduce exposure to fragrances for those with multiple chemical sensitivities, NCD requests that all those attending the meeting in person please refrain from wearing scented personal care products such as perfumes, hairsprays, colognes, and deodorants.

Dated: July 2, 2014.
Rebecca Cokley,
Executive Director.

[FR Doc. 2014-15946 Filed 7-3-14; 11:15 am]

BILLING CODE 8421-02-P